DEPARTMENT OF STATE

[Public Notice 5255]

30-Day Notice of Proposed Information Collection: Form DS-4076, Request for Commodity Jurisdiction (CJ)/U.S. Munitions List (USML) Determination, OMB Control Number 1405-0163

ACTION: Notice of request for public comment and submission to OMB of proposed collection of information.

SUMMARY: The Department of State has submitted the following information collection request to the Office of Management and Budget (OMB) for approval in accordance with the Paperwork Reduction Act of 1995.

Title of Information Collection: Request for Commodity Jurisdiction (CJ)/U.S. Munitions List (USML) Determination.

OMB Control Number: 1405-0163.

Type of Request: Extension of a Currently Approved Collection.

Originating Office: Bureau of Political-Military Affairs, Directorate of Defense Trade Controls, (PM/DDTC).

Form Number: DS-4076.

Respondents: Business organizations.

Estimated Number of Respondents: 300.

Estimated Number of Responses: 300.

Average Hours per Response: 2 hours.

Total Estimated Burden: 600 hours.

Frequency: Once per year per respondent.

Obligation to Respond: Voluntary.

DATES: Submit comments to the Office of Management and Budget (OMB) for up to 30 days from December 30, 2005.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20530.

• Fax: 202-395-6974.

FOR FURTHER INFORMATION CONTACT: You may obtain copies of the proposed information collection and supporting documents from Michael T. Dixon, Director, Office of Defense Trade Controls Management, Bureau of Political-Military Affairs, SA-1, Room H1200, 2401 E Street, NW., Washington, DC 20037, who may be reached via e-mail at DixonMT@state.gov.

SUPPLEMENTARY INFORMATION: We are soliciting public comments to permit the Department to:

• Evaluate whether the proposed collection of information is necessary to properly perform our functions.

• Evaluate the accuracy of our estimate of the burden of the proposed collection, including the validity of the methodology and assumptions used.

• Enhance the quality, utility, and clarity of the information to be collected.

• Minimize the reporting burden on those who are to respond.

Abstract of proposed collection: The information will be used to evaluate whether or not a particular defense article or defense service is covered by the U.S. Munitions List; to change the U.S. Munitions List category designation; to confirm the U.S. Munitions List Category designation; to remove a defense article from the U.S. Munitions List; or to reconsider a previous commodity jurisdiction determination.

Methodology: These forms/information collections may be sent to the Directorate of Defense Trade Controls via the following methods: Mail, personal delivery, and/or electronically.

Dated: December 16, 2005.
Gregory M. Suchan,
Deputy Assistant Secretary for Defense Trade Controls, Bureau of Political-Military Affairs, Department of State.

[FR Doc. E5-8118 Filed 12-29-05; 8:45 am]

BILLING CODE 4710-25-P